U.S. DEPARTMENT OF COMMERCE

Foreign-Trade Zones Board

Docket 54-2009

Foreign-Trade Zone 238 Dublin, Virginia, Application for Subzone, VF Corporation (Apparel, Footwear, and Luggage Distribution), Martinsville, Virginia

An application has been submitted to the Foreign-Trade Zones Board (the Board) by the New River Economic Development Alliance, Inc., grantee of FTZ 238, requesting special-purpose subzone status for the apparel, footwear, and luggage warehousing and distribution facilities of VF Corporation (VFC), located in Martinsville, Virginia. The application was submitted pursuant to the provisions of the Foreign-Trade Zones Act, as amended (19 U.S.C. 81a-81u), and the regulations of the Board (15 CFR part 400). It was formally filed on December 2, 2009.

The VFC facilities consist of two sites (183 employees): Site 1 - warehouse/distribution center (466,700 sq.ft./60.1 acres/168 employees) located at 500 Nautica Way, Martinsville; Site 2 - warehouse/distribution center (891,913 sq.ft./117.6 acres/15 employees) located at 3375 Joseph Martin Highway, Martinsville, Virginia. The facilities are used for warehousing and distribution of foreign-origin apparel, footwear, and luggage for the U.S. market and export. FTZ procedures would be utilized to support VFC's U.S.-based value-added and distribution activity. Finished products to be admitted to the proposed subzone for distribution would include men's, boys', women's and girls' footwear, coats, suits, jackets, trousers, pants, blouses, shirts, tops, jumpers, gowns, underwear, hosiery, sleepwear, robes, athletic wear, neckties, hats, scarves, shawls, mufflers, gloves/mittens, infants' apparel, luggage, hand bags, attaches, backpacks, and packaging materials. The applicant is not seeking manufacturing or processing authority with this request.

FTZ procedures could exempt VFC from customs duty payments on foreign products that are exported (about 1% of shipments). On domestic sales, duty payments would be deferred until the foreign merchandise is shipped from the facility and entered for U.S. consumption. FTZ designation would further allow VFC to realize logistical benefits through the use of weekly customs entry procedures. The application indicates that the savings from FTZ procedures would help improve the facilities' international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is February 16, 2010. Rebuttal comments in response to material submitted during the foregoing period may be submitted during the subsequent 15-day period to March 1, 2010.

A copy of the application will be available for public inspection at the Office of the Foreign-Trade Zones Board's Executive Secretary at the address listed above and in the “Reading Room” section of the Board's website, which is accessible via www.trade.gov/ftz. For further information, contact Pierre Duy at Pierre.Duy@trade.gov or (202) 482-1378.

Dated: December 3, 2009.
Andrew McGilvray,
Executive Secretary.

[FR Doc. E9-29906 Filed 12-15-09; 8:45 am]

BILLING CODE 3510-DS-S